DEPARTMENT OF THE INTERIOR

Fish and Wildlife Service

[FWS-R4-ES-2011-N007; 40120-1113-0000-C2]

Endangered and Threatened Wildlife and Plants; Notice of Availability of a Technical/Agency Draft Recovery Plan for Gentian Pinkroot

AGENCY: Fish and Wildlife Service, Interior.

ACTION: Notice of availability and request for public comment.

SUMMARY: We, the Fish and Wildlife Service, announce the availability of the technical/agency draft recovery plan for the endangered gentian pinkroot (Spigelia gentianoides). The draft recovery plan includes specific recovery objectives and criteria the species would have to meet in order for us to downlist it to threatened status under the Endangered Species Act of 1973, as amended (Act). We request review and comment on this draft recovery plan from local, State, and Federal agencies, and the public.

DATES: In order to be considered, we must receive comments on the draft recovery plan on or before May 23, 2011.

ADDRESSES: If you wish to review this technical/agency draft recovery plan, you may obtain a copy by contacting Dr. Vivian Negron-Ortiz, U.S. Fish and Wildlife Service, Panama City Field Office, 1601 Balboa Ave, Panama City, FL 32405; tel. (850) 769-0552; or by visiting either the Service's recovery plan Web site at http://endangered.fws.gov/recovery/index.html#plans or the Panama City Field Office Web site at http://www.fws.gov/panamacity/. If you wish to comment, you may submit your comments by one of the following methods:

1. You may submit written comments and materials to Dr. Negron-Ortiz, at the above address.

2. You may hand-deliver written comments to our Panama City Field Office, at the above address, or fax them to (850) 763-2177.

3. You may send comments by e-mail to vivian_negronortiz@fws.gov.

For additional information about submitting comments, see the “Request for Public Comments” section below.

FOR FURTHER INFORMATION CONTACT: Dr. Negron-Ortiz at the above addresses or by telephone: (850) 769-0552, ext. 231.

SUPPLEMENTARY INFORMATION:

Background

Spigelia gentianoides was listed as endangered under the Act (16 U.S.C. 1531 et seq.) on November 26, 1990 (55 FR 49046). A plant, S. gentianoides, comprises two varieties: Var. gentianoides is restricted to five locations within three counties in the Florida Panhandle and southern Alabama, and var. alabamensis is a narrow endemic limited to the Bibb County Glades in Alabama. The loss or alteration of habitat is thought to be the primary reason for the species' decline. The extant plants of var. gentianoides are located in fire-dependent longleaf pine-wiregrass and pine-oak-hickory ecosystems. Much of this habitat has been reduced in its range, converted to pine plantation, and managed without fire. Some of the glades in which var. alabamensis is located are owned and protected by The Nature Conservancy. This variety is threatened by potential development of privately owned glades (open, almost treeless areas within woodlands).

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

Recovery Plan Components

The objective of this plan is to provide a framework for the recovery of gentian pinkroot, so that protection under the Act is no longer necessary. Defining reasonable delisting criteria is not possible at this time given the current low number of populations and individuals, the lack of information about the species' biology, and the magnitude of current threats from development. Therefore, this recovery plan establishes downlisting criteria for S. gentianoides so that it may be reclassified to threatened status.

The recovery of S. gentianoides is challenging because our knowledge about the species' biology is limited. Therefore, surveying; monitoring; demographic studies; improving management protocols, including the establishment of fire management regimes; and securing extant populations are the most immediate priorities.

Downlisting of S. gentianoides from endangered to threatened status will be considered when: (1) Extant populations and newly discovered sites are identified and mapped; (2) inventories on the total number of individuals, number of flowering vs. non-flowering plants, presence of pollinators, and whether seedling recruitment is occurring have been conducted across the species' historic sites and/or on new locations; (3) monitoring programs and management protocols on selected populations (e.g., populations with largest number of individuals) are established for at least 15 years to track threats to the species and habitat (e.g., control exotic species, minimize site disturbance and urban development); (4) the extant populations (including subpopulations at the Ketona Glades, Bibb County, Alabama) located on public land are stable (where fertility and mortality are constant) for at least 15 years; (5) the minimum viable population has been determined for each variety using population viability analyses (PVA); (6) research on key aspects related to demography (e.g., density, effect of fire on seedling establishment), reproductive biology, and seed ecology is accomplished; and (7) viable germplasm representing > 50 percent of the populations for each variety is maintained in ex situ. In addition, the following specific actions must be completed for each variety:

Var. gentianoides: (1) Sizes of the four largest extant populations are increased via prescribed burns until plant numbers are stabilized over a period of 15 years; (2) at least one new population is found; and (3) at least one population is re-established within the historic range, specifically in the sites where the plants are currently known to be extirpated.

Var. alabamensis: Fifty percent of the Bibb County glades known to support the variety on private land are protected through conservation agreements, easements, or land acquisition.

Downlisting criteria will be reevaluated and delisting criteria will be created as new scientific data and information become available and recovery actions are implemented.

Request for Public Comments

We request written comments on the recovery plan. We will consider all comments we receive by the date specified in DATES prior to final approval of the plan.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: January 4, 2011.
Mark J. Musaus,
Acting Regional Director, Southeast Region.

[FR Doc. 2011-6638 Filed 3-22-11; 8:45 am]

BILLING CODE 4310-55-P